DEPARTMENT OF HEALTH AND HUMAN SERVICES

Indian Health Service

Porcupine Clinic

AGENCY: Indian Health Service, HHS.

ACTION: Notice.

SUMMARY: The Indian Health Service (IHS) announces the Grant Award to the Porcupine Clinic for start up cost in reopening the Porcupine Dialysis Center for the dialysis patients who had utilized this center. Those dialysis patients have had to travel a long distance to make their appointments two to three times a week. The award is issued under the authority of the Indian Health Care Improvement Act, Section 1621(c), and is included under the Catalog of Federal Domestic Assistance number 93.933. The specific objectives of the project are:

1. To be used to prolong the lives of dialysis patients.

2. To provide culturally-based care for the Lakota people; and,

3. To ameliorate conditions resulting from lack of transportation, insufficient funding, and extreme social problems on the Pine Ridge Indian Reservation.

DATES: The Non-Competitive Emergency Grant is from 06/01/2003 to 5/31/2004 with a one time funding of $75,000.

FOR FURTHER INFORMATION CONTACT: For further information for program information, contact Paul Iron Cloud, Porcupine Clinic Executive Director, PO Box 275, Porcupine, South Dakota 57772, telephone (605) 867-5665 or Bruce Williams, Directors, Porcupine Clinic Dialysis Center, telephone (605) 867-6111. For grants information, contact Sylvia Ryan, Grants Management Specialist, Division of Acquisitions and Grants Management Branch, 801 Thompson Avenue, Rockville, Maryland 20852, telephone (301) 443-5204.

SUPPLEMENTARY INFORMATION: This project has been awarded on a non-competitive single source basis. Porcupine Dialysis Center is the only organization that represents approximately 23 dialysis patients who are treated two to three times a week. This dialysis center provides care to Native American people who live on the Pine Ridge and Rosebud reservations or who live in non-reservation areas with significant Native American populations. The population served by these programs is the same as IHS's user population.

The Grant Award has been awarded because of the need for dialysis and to present the need for dialysis renal failure. This grant is for one time funding of $75,000.

Dated: May 30, 2003.
Michel E. Lincoln,
Deputy Director.

[FR Doc. 03-14688 Filed 6-10-03; 8:45 am]

BILLING CODE 4160-16-M